DEPARTMENT OF THE INTERIOR

Bureau of Land Management

[LLOR9360000.L63500000.DF0000 13XL1116AF]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from private landowners in western Oregon who are authorized to transport timber over roads controlled by the BLM. The Office of Management and Budget (OMB) has assigned control number 1004-0168 to this information collection.

DATES: Please submit comments on the proposed information collection by November 15, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0168” regardless of the form of your comments.

FOR FURTHER INFORMATION CONTACT: Dustin Wharton at 541-471-6659. Persons who use a telecommunication device for the deaf may call the Federal Information Relay Service at 1-800-877-8339 to leave a message for Mr. Wharton.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Tramroads and Logging Roads (43 CFR part 2810).

OMB Control Number: 1004-0168.

Summary: This collection pertains to rights-of-way on public lands in western Oregon that were returned to the United States after being conveyed for construction of the Oregon & California Railroad. The BLM Oregon State Office has authority under the Act of August 28, 1937 (43 U.S.C. 1181a and 1181b) and subchapter V of the Federal Land Policy and Management Act (43 U.S.C. 1761-1771) to grant rights-of-way to private landowners to transport their timber over roads controlled by the BLM. The information collected under this control number enables the BLM to calculate and collect appropriate fees for this use of public lands.

Frequency of Collection: Annually, biannually, quarterly, or monthly, depending on the terms of the pertinent right-of-way.

Forms: Form 2812-6, Report of Road Use.

Description of Respondents: Private landowners who hold rights-of-way for the use of BLM-controlled roads in western Oregon.

Estimated Annual Responses: 272.

Estimated Annual Burden Hours: 2,176.

Estimated Annual Non-Hour Costs: None.

The estimated annual burdens for respondents are itemized in the following table:

A. Type of response and 43 CFR citation | B. Number of responses | C. Hours per response | D. Total hours (Column B x Column C)
Form OR-2812-6, Report of Road Use 43 CFR 2812.3 and 43 CFR 2812.5 | 272 | 8 | 2,176
Total | 272 | 8 | 2,176

Jean Sonneman,
Bureau of Land Management, Information Collection Clearance Officer.

[FR Doc. 2013-22440 Filed 9-13-13; 8:45 am]

BILLING CODE 4310-$$-P